OFFICE OF PERSONNEL MANAGEMENT

5 CFR Part 531

Pay Under the General Schedule

CFR Correction

In Title 5 of the Code of Federal Regulations, Parts 1 to 699, revised as of January 1, 2015, on page 399, in § 531.403, in the second column, the definition of “Next higher rate within the grade” is removed and replaced by the revised definition of “Next higher rate within the grade” from the first column.

[FR Doc. 2015-31128 Filed 12-9-15; 8:45 am]

BILLING CODE 1505-01-D